DEPARTMENT OF THE TREASURY

Office of the Comptroller of the Currency

Agency Information Collection Activities: Proposed Information Collection; Comment Request

AGENCY: Office of the Comptroller of the Currency (OCC), Treasury.

ACTION: Notice and request for comment.

SUMMARY: The OCC, as part of its continuing effort to reduce paperwork and respondent burden, invites the general public and other Federal agencies to comment on a continuing information collection, as required by the Paperwork Reduction Act of 1995. An agency may not conduct or sponsor, and a respondent is not required to respond to, an information collection unless it displays a currently valid Office of Management and Budget (OMB) control number. The OCC is soliciting comment concerning an extension of OMB approval of the information collection titled, “Real Estate Lending and Appraisals (12 CFR 34).”

DATES: Comments must be submitted on or before June 21, 2010.

ADDRESSES: Communications Division, Office of the Comptroller of the Currency, Mailstop 2-3, Attention: 1557-0190, 250 E Street, SW., Washington, DC 20219. In addition, comments may be sent by fax to (202) 874-5274, or by electronic mail to regs.comments@occ.treas.gov. You may personally inspect and photocopy comments at the OCC, 250 E Street, SW., Washington, DC 20219. For security reasons, the OCC requires that visitors make an appointment to inspect comments. You may do so by calling (202) 874-4700. Upon arrival, visitors will be required to present valid government-issued photo identification and to submit to security screening in order to inspect and photocopy comments.

Additionally, please send a copy of your comments to OCC Desk Officer, 1557-0190, by mail to U.S. Office of Management and Budget, 725 17th Street, NW., #10235, Washington, DC 20503, or by fax to (202) 395-6974.

FOR FURTHER INFORMATION CONTACT: You may request additional information or a copy of the collection and supporting documentation submitted to OMB by contacting: Mary H. Gottlieb, (202) 874-5090, Legislative and Regulatory Activities Division, Office of the Comptroller of the Currency, 250 E Street, SW., Washington, DC 20219.

SUPPLEMENTARY INFORMATION: Title: Real Estate Lending and Appraisals (12 CFR 34).

OMB Control No.: 1557-0190.

Type of Review: Extension, without revision, of a currently approved collection.

Description: Twelve CFR Part 34 contains a number of reporting and recordkeeping requirements. Subpart B (Adjustable-Rate Mortgages (ARM)) and Subpart E (Other Real Estate Owned) contain reporting requirements. Subpart C (Appraisal Requirements) and Subpart D (Real Estate Lending Standards) contain recordkeeping requirements.

Subpart B, § 34.22(a) requires that for ARM loans, the loan documentation must specify an index or combination of indices to which changes in the interest rate will be linked. Section 34.22(b) provides notice procedures to be used when a national bank seeks to use an index other than that described in paragraph (a).

Subpart C, § 34.44 provides minimum standards for the performance of real estate appraisals, including the requirement that they be written and contain sufficient information and analysis to support the institution's decision to engage in the transaction.

Subpart D, § 34.62 requires each national bank to adopt and maintain written policies that establish appropriate limits and standards for extensions of credit that are secured by liens on or interests in real estate, or that are made for the purpose of financing permanent improvements to real estate. Real estate lending policies must also be reviewed and approved by the bank's board of directors at least annually.

Subpart E, § 34.83(b) provides that national banks must maintain documentation adequate to reflect their efforts to dispose of OREO. Section 34.84 requires that after holding OREO for one year, a national bank must state, by resolution or other official action, definite plans for the use of the property and make the resolution or other action available for inspection by bank examiners. Section 34.85 requires banks to develop a prudent real estate collateral evaluation policy to monitor the value of each parcel of OREO. Section 34.86(b) requires banks to notify the appropriate supervisory office at least 30 days before implementing a development or improvement plan for OREO under certain circumstances.

Affected Public: Businesses or other for-profit.

Burden Estimates:

Estimated Number of Respondents: 1,650.

Estimated Number of Responses: 1,650.

Estimated Annual Burden: 94,095 hours.

Frequency of Response: On occasion.

Comments: Comments submitted in response to this notice will be summarized and included in the request for OMB approval. All comments will become a matter of public record. Comments are invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: April 13, 2010.
Michele Meyer,
Assistant Director, Legislative and Regulatory Activities Division, Office of the Comptroller of the Currency.

[FR Doc. 2010-8825 Filed 4-20-10; 8:45 am]

BILLING CODE 4810-33-P